ENVIRONMENTAL PROTECTION AGENCY

40 CFR Part 261

[FRN-6581-7]

RIN 2050-AE07

Hazardous Waste Identification Rule (HWIR); Extension of Public Comment Period

AGENCY: Environmental Protection Agency (EPA).

ACTION: Proposed rule; extension of the public comment period.

SUMMARY: The Environmental Protection Agency (EPA) is extending the comment period on an exemption from hazardous waste management discussed in the proposed Hazardous Waste Identification Rule (HWIR) Federal Register document published on November 19, 1999 (64 FR 63382). To ensure we consider your comments on the November 19, 1999 Federal Register discussion of the concentration-based HWIR exemption and the possible revisions to the Land Disposal Restriction (LDR) treatment standards (64 FR 63382, Sections V-XX and Sections XXI-XVI, as applicable, of the preamble), they must be postmarked on or before August 15, 2000.

Please note that today's document does not re-open the comment period on the revisions to the mixture and derived-from rules that were proposed in the November 19, 1999 HWIR proposed rule (64 FR 63382, Sections I-IV, Sections XXI-XVI (as applicable) of the preamble and the proposed regulatory language amending 40 CFR part 261). That comment period ended February 17, 2000.

DATES: Comments must be submitted on or before August 15, 2000.

ADDRESSES: Commenters must send an original and two copies of their comments referencing docket number F-1999-WH2P-FFFFF to: (1) if using regular US Postal Service mail: RCRA Docket Information Center, Office of Solid Waste (5305G), U.S. Environmental Protection Agency Headquarters (EPA, HQ), 1200 Pennsylvania Avenue, NW, Washington, DC 20460-0002, or (2) if using special delivery, such as overnight express service: RCRA Docket Information Center (RIC), Crystal Gateway One, 1235 Jefferson Davis Highway, First Floor, Arlington, VA 22202. Comments may also be submitted electronically through the Internet to: rcra-docket@epa.gov. Comments in electronic format should also be identified by the docket number F-1999-WH2P-FFFFF and must be submitted as an ASCII file avoiding the use of special characters and any form of encryption.

Commenters should not submit electronically any confidential business information (CBI). An original and two copies of CBI must be submitted under separate cover to: RCRA CBI Document Control Officer, Office of Solid Waste (5305W), U.S. EPA, 401 M Street, SW, Washington, DC 20460-0002.

Public comments and supporting materials are available for viewing in the RCRA Information Center (RIC), located at Crystal Gateway I, First Floor, 1235 Jefferson Davis Highway, Arlington, VA. The RIC is open from 9 a.m. to 4 p.m., Monday through Friday, excluding federal holidays. To review docket materials, it is recommended that the public make an appointment by calling 703-603-9230. The public may copy a maximum of 100 pages from any regulatory docket at no charge. Additional copies cost $0.15/page. The index and some supporting materials are available electronically. See the Supplementary Information section for information on accessing them.

FOR FURTHER INFORMATION CONTACT: For general information, contact the RCRA Hotline at 800-424-9346 or TDD 800-553-7672 (hearing impaired). In the Washington, DC, metropolitan area, call 703-412-9810 or TDD 703-412-3323.

For information on specific aspects of notice, contact Tracy Atagi, Office of Solid Waste 5304W, U.S. Environmental Protection Agency Headquarters (EPA, HQ), 1200 Pennsylvania Avenue, NW, Washington, DC 20460-0002, (703) 308-8672, atagi.tracy@epa.gov; for specific information on the risk modeling system, contact David Cozzie, Office of Solid Waste 5307W, U.S. Environmental Protection Agency, 401 M Street, SW, Washington, DC 20460-0002, (703) 308-0479, cozzie.david@epa.gov.

SUPPLEMENTARY INFORMATION: The notice and other material associated with this action can be electronically accessed on the Internet at http://www.epa.gov/epaoswer/hazwaste/id/hwirwste/index.htm.

The official record for this rulemaking will be kept in paper form. Accordingly, EPA will transfer all comments received electronically into paper form and place them in the official record, which will also include all comments submitted directly in writing. The official record is the record maintained at the address in ADDRESSES at the beginning of this document.

We will respond to submitted comments, whether written or electronic, in a notice in the Federal Register or in a response to comments document placed in the official record for this rulemaking. We will not immediately reply to electronically submitted comments other than to seek clarification of comments that may be garbled in transmission or during conversion to paper form, as discussed above.

List of Subjects in 40 CFR Part 261

Environmental protection, Hazardous waste, Recycling, Waste treatment and disposal.

Dated: April 5, 2000.
Elizabeth A. Cotsworth,
Director, Office of Solid Waste.

[FR Doc. 00-9795 Filed 4-18-00; 8:45 am]

BILLING CODE 6560-50-P